DEPARTMENT OF TRANSPORTATION

Federal Transit Administration

FY 2017 Competitive Funding Opportunity: Public Transportation on Indian Reservations Program; Tribal Transit Program

AGENCY: Federal Transit Administration (FTA), DOT.

ACTION: Notice of Funding Opportunity (NOFO).

SUMMARY: The Federal Transit Administration (FTA) announces the availability of approximately $5 million in funding provided by the Public Transportation on Indian Reservations Program (Tribal Transit Program), as authorized by Federal Transit law 49 U.S.C. 5311(c)(1)(A), as amended by the Fixing America's Surface Transportation (FAST) Act, Public Law 114-94 (December 4, 2015), contingent on full appropriations. This notice is a national solicitation for project proposals and includes the selection criteria and program eligibility information for FY 2017 projects. FTA may fund the program for more or less than the full year appropriation when made available, and may include other funding toward project proposals received in response to this Notice of Funding Opportunity (NOFO).

This announcement is available on the FTA Web site at: www.transit.dot.gov/funding/grants/grant-programs/public-transportation-indian-reservations-program-tribal-transit-fy-2017. Additionally, a synopsis of the funding opportunity, FTA-2017-002-TPM, will be posted in the FIND module of the government-wide electronic grants Web site at http://www.grants.gov. The program can be located in the Catalog of Federal Domestic Assistance (CFDA) under 20.509.

DATES: Complete proposals for the Tribal Transit Program announced in this Notice must be submitted by 11:59 p.m. EDT on March 20, 2017. All proposals must be submitted electronically through the GRANTS.GOV APPLY function. Any applicant intending to apply should initiate the process of registering on the GRANTS.GOV site immediately to ensure completion of registration before the submission deadline. Instructions for applying can be found on FTA's Web site at www.transit.dot.gov/funding/grants/notices and in the “FIND” module of GRANTS.GOV. Mail and fax submissions will not be accepted.

FOR FURTHER INFORMATION CONTACT: Contact the appropriate FTA Regional Office at www.transit.dot.gov/about/regional-offices/regional-offices for proposal-specific information and issues. For general program information, contact Élan Flippin, Office of Program Management, (202) 366-3800, email: elan.flippin@dot.gov. A TDD is available at 1-800-877-8339 (TDD/FIRS).

SUPPLEMENTARY INFORMATION:

Table of Contents

A. Program Description

B. Federal Award Information

C. Eligibility Information

D. Application and Submission Information

E. Application Review

F. Federal Award Administration

G. Federal Awarding Agency Contacts

Appendix A: Registering in SAM and Grants.gov

A. Program Description

The Tribal Transit Program (TTP) was established by the Safe, Accountable, Flexible, Efficient Transportation Equity Act: A Legacy for Users (SAFETEA-LU) as a competitive program from FY 2006 & FY 2012. The Moving Ahead for Progress in the 21st Century (MAP-21) Act modified the program to include a $25 million formula component and a $5 million competitive program, totaling $30 million. The FAST Act increased the Tribal Transit Formula Program to $30 million and continued the $5 million competitive program found at 49 U.S.C. 5311(c)(1). The program authorizes grants “under such terms and conditions as may be established by the Secretary” to Indian tribes for any purpose eligible under FTA's Formula Grants for Rural Areas Program, 49 U.S.C. 5311. Tribes may apply for this funding directly.

The primary purpose of these competitively selected grants is to support planning, capital, and, in limited circumstances, operating assistance for tribal public transit services. Funds distributed to Indian tribes under the TTP should NOT replace or reduce funds that Indian tribes receive from States through FTA's Formula Grants for Rural Areas Program. Specific project eligibility under this competitive allocation is described in Section C below.

B. Federal Award Information

Five million dollars is authorized for the Tribal Transit comptitive allocation in FY 2017 subject to enactment of funds to projects selected pursuant to the process described in the following sections. Federal awards under this comepetitive program will be in the form of grants. Additionally, there is a cap on planning grant awards at $25,000, and FTA has the discretion to cap capital and operating awards as well.

C. Eligibility Information

1. Eligible Applicants

Eligible applicants include federally recognized Indian tribes or Alaska Native villages, groups, or communities as identified by the U.S. Department of Interior (DOI) Bureau of Indian Affairs (BIA). As evidence of Federal recognition, an Indian tribe may submit a copy of the most up-to-date Federal Register Notice published by BIA: Entities Recognized and Eligible to Receive Service from the United States Bureau of Indian Affairs (81 FR 5019, January 29, 2016). To be an eligible recipient, an Indian tribe must have the requisite legal, financial and technical capabilities to receive and administer Federal funds under this program. Addtionally, applicants must be located and provide service in a rural area with a population of 50,000 or less. A service area can include some portions of urban areas, as long as the tribal transit service begins in and serves rural areas. Any applicant must be registered in the System for Award Management (SAM) database and maintain an active SAM registration with current information at all times during which it has an active Federal award or an application or plan under consideration by FTA.

2. Cost Sharing or Matching

There is a 90 percent federal share for projects selected under the TTP competitive program, unless the Indian tribe can demonstrate a financial hardship in its application. FTA is interested in the Indian tribe's financial commitment to the proposed project, thus the proposal should include a description of the Indian tribe's financial commitment. Tribes may use any eligible local match under Chapter 53.

3. Eligible Projects

Eligible projects include public transportation planning and capital expenses. Operating projects are eligible in limited circumstances as, in FY 2017, FTA will only consider operating assistance requests from tribes without existing transit service, or those tribes who received a TTP formula allocation of less than $20,000.

Public transportation includes regular, continuing shared-ride surface transportation services open to the public or open to a segment of the public defined by age, disability, or low income. Projects exclusive to an urbanized area, as defined by the Census Bureau, are not eligible. FTA will award grants to eligible Indian tribes located in rural areas. Applicants may submit one proposal for each project or one proposal containing multiple projects. Specific types of projects include: Capital projects for start-ups, replacement or expansion needs; operating assistance for start-ups; and planning projects up to $25,000. Indian tribes applying for capital replacement or expansion needs must demonstrate a sustainable source of operating funds for existing or expanded services.

D. Application and Submission Information

1. Address To Request Application Package

A complete proposal submission will consist of at least two files: (1) The SF 424 Mandatory form (downloaded from GRANTS.GOV); and (2) the Tribal Transit supplemental form found on the FTA Web site at www.transit.dot.gov/funding/grants/tribal-transit-2017-supplemental-form. The Tribal Transit supplemental form provides guidance and a consistent format for applicants to respond to the criteria outlined in this NOFO.

2. Content and Form of Application Submission

(i) Proposal Submission

A complete proposal submission will consist of at least two files: (1) The SF 424 Mandatory form (downloaded from GRANTS.GOV); and (2) the Tribal Transit supplemental form found on the FTA Web site at www.transit.dot.gov/funding/grants/tribal-transit-2017-supplemental-form. The applicant must place the supplemental form in the attachments section of the SF-424 Mandatory form. Applicants must use the supplemental form designated for TTP and attach the form to their submission in GRANTS.GOV to complete the application process. A proposal submission may contain additional supporting documentation as attachments. Within 24 to 48 hours after submitting an electronic application, the applicant should receive three email messages from GRANTS.GOV: (1) Confirmation of successful transmission to GRANTS.GOV; (2) confirmation of successful validation by GRANTS.GOV; and (3) confirmation of successful validation by FTA. If the applicant does not receive confirmations of successful validation or instead receives a notice of failed validation or incomplete materials, the applicant must address the reason for the failed validation or incomplete materials, as described in the notice, and resubmit the proposal before the submission deadline. If making a resubmission for any reason, the applicant must include all original attachments regardless of which attachments were updated and check the box on the supplemental form indicating this is a resubmission. Complete instructions on the application process can be found at https://www.transit.dot.gov/funding/grants/notices.

Important: FTA urges applicants to submit their project proposals at least 72 hours prior to the due date to allow time to receive the validation message and to correct any problems that may have caused a rejection notification. FTA will not accept submissions after the stated submission deadline. GRANTS.GOV scheduled maintenance and outage times are announced on the GRANTS.GOV Web site http://www.GRANTS.GOV. The deadline will not be extended due to scheduled maintenance or outages.

Applicants are encouraged to begin the process of registration on the GRANTS.GOV site well in advance of the submission deadline. Registration is a multi-step process which may take several weeks to complete before an application can be submitted. Registered proposers may still be required to take steps to keep their registration up to date before submissions can be made successfully: (1) Registration in the SAM is renewed annually; and (2) persons making submissions on behalf of the Authorized Organization Representative (AOR) must be authorized in GRANTS.GOV by the AOR to make submissions. Instructions on the GRANTS.GOV registration process are provided in the Appendix.

Applicants may submit one proposal for each project or one proposal containing multiple projects. Applicants submitting multiple projects in one proposal must be sure to clearly define each project by completing a supplemental form for each project. Additional supplemental forms must be added within the proposal by clicking the “add project” button in Section II of the supplemental form.

Information such as applicant name, Federal amount requested, description of areas served, and other information may be requested in varying degrees of detail on both the SF 424 form and supplemental form. Applicants must fill in all fields unless stated otherwise on the forms. Applicants should use both the “Check Package for Errors” and the “Validate Form” validation buttons on both forms to check all required fields on the forms, and ensure that the Federal and local amounts specified are consistent.

(ii) Application Content

The SF424 Mandatory Form and the Supplemental Form will prompt applicants for the required information, including:

a. Name of federally recognized tribe and, if appropriate, the specific tribal agency submitting the application.

b. Dun and Bradstreet (D&B) Data Universal Numbering System (DUNS) number if available. (Note: If selected, applicant will be required to provide DUNS number prior to grant award).

c. Contact information including: Contact name, title, address, fax and phone number, email address if available.

d. Description of existing public transportation services including areas currently served by the tribe, if any.

e. Name of person(s) authorized to apply on applicant's behalf must accompany the proposal (attach a signed transmittal letter).

f. Complete Project Description:

Indicate the category for which funding is requested (i.e., project type: Capital, operating or planning), and then indicate the project purpose (i.e., start-up, expansion or replacement). Describe the proposed project and what it will accomplish (e.g., number and type of vehicles, routes, service area, schedules, type of services, fixed route or demand responsive, safety aspects), route miles (if fixed route), ridership numbers expected (actual if an existing system, estimated if a new system), major origins and destinations, population served, and whether the tribe provides the service directly, contracts for services, and note vehicle maintenance plans.

g. Project Timeline:

Include significant milestones such as date of contract for purchase of vehicle(s), actual or expected delivery date of vehicles; facility project phases (e.g. NEPA compliance, design, construction); or dates for completion of planning studies. If applying for operational funding for new services, indicate the period of time funds are used to operate the system (e.g. one year). This section should also include any needed timelines for tribal council project approvals, if applicable.

h. Budget:

Provide a detailed budget for each proposed purpose noting the Federal amount requested and any additional funds that will be used. An Indian tribe may use up to fifteen percent of a grant award for capital projects for specific project-related planning and administration, and the indirect costs rate may not exceed ten percent (if necessary add as an attachment) of the total amount requested/awarded. Indian tribes must also provide their annual operating budget as an attachment or under the Financial Commitment and Operating Capacity of the supplemental form.

i. Technical, Legal, Financial Capacity: Applicants must be able to demonstrate adequate technical, legal and financial capacity to be considered for funding. Every proposal MUST describe this capacity to implement the proposed project.

1. Technical Capacity: Provide examples of management of other Federal projects, including previously funded FTA projects and/or similar types of projects for which funding is being requested. Describe the resources available to implement the proposed transit project.

2. Legal Capacity: Provide documentation or other evidence to demonstrate status as a federally recognized Indian tribe. Further, demonstrate evidence of an authorized representative with authority bind the applicant and execute legal agreements with FTA. If applying for capital or operating funds, identify whether appropriate Federal or State operating authority exists.

3. Financial Capacity: Provide documentation or other evidence demonstrating current adequate financial systems to receive and manage a Federal grant. Fully describe: (1) All financial systems and controls; 2) other sources of funds currently managed; and (3) the long-term financial capacity to maintain the proposed or existing transit services.

3. Unique Entity Identifier and System for Award Management (SAM)

Each applicant is required to: (1) Be registered in SAM before submitting an application; (2) provide a valid unique entity identifier in its application; and (3) continue to maintain an active SAM registration with current information at all times during which the applicant has an active Federal award or an application or plan under consideration by FTA. These requirements do not apply if the applicant: (1) Is an individual; (2) is excepted from the requirements under 2 CFR 25.110(b) or (c); or (3) has an exception approved by FTA under 2 CFR 25.110(d). FTA may not make an Award until the applicant has complied with all applicable unique entity identifier and SAM requirements. If an applicant has not fully complied with the requirements by the time FTA is ready to make an Award, FTA may determine that the applicant is not qualified to receive an Award and use that determination as a basis for making a Federal award to another applicant. SAM registration takes approximately three to five business days, but FTA recommends allowing ample time, up to several weeks, for completion of all steps.

Step 1: Obtain DUNS Number

Same day. If requested by phone (1-866-705-5711) DUNS is provided immediately. If your organization does not have one, you will need to go to the Dun & Bradstreet Web site at http://fedgov.dnb.com/webform to obtain the number.

Step 2: Register With SAM

Three to five business days or up to two weeks. If you already have a Taxpayer Identification Number (TIN), your SAM registration will take three to five business days to process. If you are applying for an Employer Identification Number (EIN) please allow up to two weeks. Ensure that your organization is registered with the System for Award Management (SAM) at https://www.sam.gov. If your organization is not, an authorizing official of your organization must register.

Step 3: Establish an Account in Grants.gov—Username & Password

Same day. Complete your Authorized Organization Representative (AOR) profile on Grants.gov and create your username and password. You will need to use your organization's DUNS Number to complete this step. https://apply07.grants.gov/apply/OrcRegister.

Step 4: Grants.gov—AOR Authorization

* Same day. The E-Business Point of Contact (E-Biz POC) at your organization must login to Grants.gov to confirm an Authorized Organization Representative (AOR). Please note that there can be more than one AOR for your organization. In some cases the E-Biz POC is also the AOR for an organization. *Time depends on responsiveness of your E-Biz POC.

Step 5: Track AOR Status

At any time, you can track your AOR status by logging in with your username and password. Login as an Applicant (enter your username & password you obtained in Step 3) using the following link: applicant_profile.jsp.

4. Submission Dates and Times

Project proposals must be submitted electronically through GRANTS.GOV by March 20, 2017. Mail and fax submissions will not be accepted. Proposals submitted after the deadline will not be considered under any circumstance. Applications are time and date stamped by the Discretionary Grants System (DGS) upon successful submission.

5. Funding Restrictions

Funds must be used only for the specific purposes requested in the application. Funds under this NOFO cannot be used to reimburse projects for otherwise eligible expenses incurred prior to FTA award.

6. Other Submission Requirements

FTA requires that all project proposals be submitted electronically through http://www.GRANTS.GOV by 11:59 p.m. EDT on March 20, 2017. Mail and fax submissions will not be accepted.

E. Application Review

1. Selection Criteria

FTA will use the following primary selection criteria when evaluating competing capital and operating assistance projects eligible under this program. Applications will be evaluated based on the quality and extent to which the following evaluation criteria are addressed.

i. Planning and Local/Regional Prioritization

Applications will be evaluated based on the degree to which the applicant: (1) Describes how the proposed project was developed; (2) demonstrates that a sound basis for the project exists; and (3) demonstrates that the applicant is ready to implement the project if funded. Information may vary depending upon how the planning process for the project was conducted and what is being requested. Planning and local/regional prioritization should:

a. Describe the planning document and/or the planning process conducted to identify the proposed project;

b. Provide a detailed project description including the proposed service, vehicle and facility needs, and other pertinent characteristics of the proposed or existing service implementation;

c. Identify existing transportation services in and near the proposed service area, and document in detail whether the proposed project will provide opportunities to coordinate service with existing transit services, including human service agencies, intercity bus services, or other public transit providers;

d. Discuss the level of support by the community and/or tribal government for the proposed project;

e. Describe how the mobility and client-access needs of tribal human service agencies were considered in the planning process;

f. Describe what opportunities for public participation were provided in the planning process and how the proposed transit service or existing service has been coordinated with transportation provided for the clients of human service agencies, with intercity bus transportation in the area, or with any other rural public transit providers;

g. Describe how the proposed service complements rather than duplicates any currently available services;

h. Describe the implementation schedule for the proposed project, including time period, staffing, and procurement; and

i. Describe any other planning or coordination efforts not mentioned above.

ii. Project Readiness: Applications will be evaluated on the degree to which the applicant describes readiness to implement the project. The project readiness factor involves assessing whether:

a. Project is a Categorical Exclusion (CE) or the required environmental work has been initiated or completed for construction projects requiring an Environmental Assessment (EA) or Environmental Impact Statement (EIS) under, among others, the National Environmental Policy Act of 1969, as Amended;

b. Project implementation plans are complete, including initial design of facilities Projects;

c. Project funds can be obligated and the project can be implemented quickly, if selected; and

d. Applicant demonstrates the ability to carry out the proposed project successfully.

iii. Demonstration of Need

Applications will be evaluated based on the degree to which the applicant identies the need for transit for resources. In addition to project-specific criteria, FTA will consider the project's impact on service delivery and whether the project represents a one-time or periodic need that cannot reasonably be funded from the FTA program formula allocations or State and/or local resources. FTA will evaluate how the proposal demonstrates the transit needs of the Indian tribe as well as how the proposed transit improvements or the new service will address identified transit needs. Proposals should include information such as destinations and services not currently accessible by transit, needs for access to jobs or health care, safety enhancements or special needs of elders, individuals with disabilities, behavioral health care needs of youth, income-based community needs, or other mobility needs. If an applicant received a planning grant in previous fiscal years, it should indicate the status of the planning study and how the proposed project relates to that study.

Applicants applying for capital expansion or replacement projects should also address the following factors in their proposal. If the proposal is for capital funding associated with an expansion or expanded service, the applicant should describe how current or growing demand for the service necessitates the expansion (and therefore, more capital) and/or the degree to how the project is addressing a current capacity constraint. Capital replacement projects should include information about the age, condition, and performance of the asset to be replaced by the proposed project and/or how the replacement may be necessary to maintain the transit system in a state of good repair.

iv. Demonstration of Benefits

Applications will be evaluated based on the degree to which the applicant identifies expected or, in the case of existing service, achieved/project benefits. FTA is particularly interested in how these investments will improve the quality of life for the tribe and surrounding communities in which it is located. Applicants should describe how the transportation service or capital investment will provide greater access to employment opportunities, educational centers, healthcare, or other needs that profoundly impact the quality of life for the community, as described in the program purpose above. Possible examples include increased or sustained ridership and daily trips, improved service, elimination of gaps in service, improved operations and coordination, increased reliability, health care, education, and economic benefits to the community. Benefits can be demonstrated by identifying the population of tribal members and non-tribal members in the proposed project service area and estimating the number of daily one-way trips the proposed transit service will provide or the actual number of individual riders served. Applicants are encouraged to consider qualitative and quantitative benefits to the Indian tribe and to the surrounding communities that are meaningful to them.

Based on the information provided under the demonstration of benefits, FTA will rate proposals rated based on the quality and extent to which they discuss the following four factors:

a. The project's ability to improve transit efficiency or increase ridership;

b. Whether the project will improve or maintain mobility, or eliminate gaps in service for the Indian tribe;

c. Whether the project will improve or maintain access to important destinations and services;

d. Any other qualitative benefits, such as greater access to jobs, education and health care.

v. Financial Commitment and Operating Capacity

Applications must identify the source of local match (ten percent is required for all operating and capital projects), and any other funding sources used by the Indian tribe to support proposed transit services, including human service transportation funding, FHWA's Tribal Transportation Program funding, or other FTA programs. If requesting that FTA waive the local match based on financial hardship, the applicant must submit budgets and sources of other revenue to demonstrate hardship. FTA will review this information and notify tribes at the time of award if the waiver is approved. If applicable, the applicant also should describe how prior year TTP funds were spent to date to support the service. Additionally, Indian tribes applying for operating of new services should provide a sustainable funding plan that demonstrates how it intends to maintain operations.

In evaluating proposals, FTA will consider any other resources the Indian tribe will contribute to the project, including in-kind contributions, commitments of support from local businesses, donations of land or equipment, and human resources. The proposal should describe to what extent the new project or funding for existing service leverages other funding. Based upon the information provided, the proposals will be rated on the extent to which the proposal demonstrates that:

a. TTP Funding does not replace existing funding;

b. The Indian tribe will provide non-financial support to the project;

c. The Indian tribe is able to demonstrate a sustainable funding plan; and

d. Project funds are used in coordination with other services for efficient utilization of funds.

vi. Evaluation Criteria for Planning Proposals

For planning grants, the proposal must describe the need for and a general scope of the proposed study. Applications will be evaluated based on the degree to which the applicant addresses the following:

1. The tribes' long-term commitment to transit; and

2. The method used to implement the proposed study and/or further tribal transit.

2. Review and Selection Process

A technical evaluation committee will review proposals under the project evaluation criteria. Members of the technical evaluation committee and other involved FTA staff reserve the right to screen, rate the applications, and seek clarification about any statement in an application. After consideration of the findings of the technical evaluation committee, the FTA Administrator will determine the final selection and amount of funding for each project. Geographic diversity and the applicant's receipt and management of other Federal transit funds may be considered in FTA's award decisions. FTA expects to announce the selected projects and notify successful applicants in the spring of 2017.

F. Federal Award Administration

1. Federal Award Notice

Subsequent to an announcement by the FTA Administrator of the final project selections posted on the FTA Web site, FTA will publish a list of the selected projects, including Federal dollar amounts and recipients in the Federal Register. Project recipients should contact their FTA Regional Offices and tribal liaison for information about setting up grants in FTA's Transit Award Management System (TrAMS).

2. Award Administration

Successful proposals will be awarded through TrAMS as Grant Agreements. The appropriate FTA Regional Office and tribal liaison will manage project agreements.

3. Administrative and National Policy Requirements

Except as otherwise provided in this NOFO, TTP grants are subject to the requirements of 49 U.S.C. 5311(c)(1) as described in the latest FTA Circular 9040.1G for the Formula Grants for Rural Areas Program.

4. Reporting

The post award reporting requirements include submission of the Federal Financial Report (FFR) and Milestone Progress Report in TrAMs, and National Transit Database (NTD) reporting as appropriate (see FTA Circular 9040.1G). Reports to TrAMS and NTD are due annually.

G. Federal Awarding Agency Contacts

For further information concerning this notice, please contact Élan Flippin, Office of Program Management, (202) 366-3800, email: elan.flippin@dot.gov. A TDD is available at 1-800-877-8339 (TDD/FIRS).

H. Other Information

This program is not subject to Executive Order 12372, “Intergovernmental Review of Federal Programs.” FTA will consider applications for funding only from eligible recipients for eligible projects listed in Section C-2. Due to funding limitations, applicants that are selected for funding may receive less than the amount requested.

Additionally, to assist tribes with understanding requirements under the TTP, FTA has conducted Tribal Transit Technical Assistance Workshops, and will continue those efforts in FY2017. FTA also has expanded its technical assistance to tribes receiving funds under this program. Additionally, through the Tribal Transit Technical Assistance Assessments Initiative, FTA collaborates with Tribal Transit Leaders to review processes and identify areas in need of improvement and then assists to offer solutions to address these needs—all in a supportive and mutually beneficial manner that results in technical assistance. FTA has completed thirty assessments to date, and expects to do fifteen assessments in FY17. These assessments include discussions of compliance areas pursuant to the Master Agreement, a site visit, promising practices reviews, and technical assistance from FTA and its contractors. These workshops and assessments have received exemplary feedback from Tribal Transit Leaders and provided FTA with invaluable opportunities to learn more about Tribal Transit Leaders' perspectives so to better honor the sovereignty of tribal nations.

FTA will post information about upcoming workshops to its Web site and will disseminate information about the assessments through its regional offices. Contact information for FTA's regional offices can be found on FTA's Web site at www.transit.dot.gov/about/regional-offices. Applicants may also receive technical assistance by contacting their FTA regional Tribal Liaison. A list of Tribal Liaisons is available on FTA's Web site at www.transit.dot.gov/funding/grants/grant-programs/public-transportation-indian-reservations-program-tribal-transit.

Carolyn Flowers,
Acting Administrator.

Appendix A

Registering in SAM and Grants.Gov

Registration in Brief

Registration takes approximately three to five business days, please allow four weeks for completion of all steps.

In order to apply for a grant, you and/or your organization must first complete the registration process in Grants.gov. The registration process for an Organization or an Individual can take between three to five business days or as long as four weeks if all steps are not completed in a timely manner. So please register in Grants.gov early.

The Grants.gov registration process ensures that applicants for Federal Funds have the basic prerequisites to apply for and to receive federal funds. Applicants for FTA competitive funds must:

• Have a valid DUNS number

• Have a current registration in SAM (formerly CCR)

• Register and apply in Grants.gov

The required registration steps are described in greater detail on Grants.gov Web site. The following is a link to a helpful checklist and explanations published by Grants.gov to assist applicants: Organization Registration Checklist. If you have not recently applied for federal funds, we recommend that you initiate your search, registration, and application process with Grants.gov. Visiting the Grants.gov site will inform you of how to apply for grant opportunities, as well as assist you in linking to the other required registrations, i.e., Dun & Bradstreet to obtain a DUNS Number, and System for Award Management (SAM).

Summary of steps (these steps are available in Grants.gov during registration):

Step 1: Obtain DUNS Number

Same day. If requested by phone (1-866-705-5711) DUNS is provided immediately. If your organization does not have one, you will need to go to the Dun & Bradstreet Web site at http://fedgov.dnb.com/webform to obtain the number.

Step 2: Register With SAM

Three to five business days or up to two weeks. If you already have a Taxpayer Identification Number (TIN), your SAM registration will take three to five business days to process. If you are applying for an Employer Identification Number (EIN) please allow up to two weeks. Ensure that your organization is registered with the System for Award Management (SAM) at https://www.sam.gov. If your organization is not, an authorizing official of your organization must register.

Step 3: Establish an Account in Grants.gov—Username & Password

Same day. Complete your Authorized Organization Representative (AOR) profile on Grants.gov and create your username and password. You will need to use your organization's DUNS Number to complete this step. https://apply07.grants.gov/apply/OrcRegister.

Step 4: Grants.gov—AOR Authorization

* Same day. The E-Business Point of Contact (E-Biz POC) at your organization must login to Grants.gov to confirm you as an Authorized Organization Representative (AOR). Please note that there can be more than one AOR for your organization. In some cases the E-Biz POC is also the AOR for an organization. *Time depends on responsiveness of your E-Biz POC.

* Please Note: Grants.gov gives you the option of registering as an “individual” or as an “organization.” If you register in Grants.gov as an as an “Individual,” your “Organization” will not be allowed to use the Grants.gov username and password. To apply for grants as an Organization you must register as an Organization and use that specific username and password issued during the “organization” registration process.

[FR Doc. 2017-01171 Filed 1-18-17; 8:45 am]

BILLING CODE P